DEPARTMENT OF AGRICULTURE

Forest Service

Notice of Proposed New Fee Sites

AGENCY: Forest Service, Agriculture (USDA).

ACTION: Notice of proposed new fee sites.

SUMMARY: The Mt. Hood National Forest is proposing to charge new fees at multiple recreation sites listed in SUPPLEMENTARY INFORMATION of this notice. Funds from fees would be used for operation, maintenance, and improvements of these recreation sites. Many sites have recently been reconstructed or amenities are being added to improve services and experiences. An analysis of nearby developed recreation sites with similar amenities shows the proposed fees are reasonable and typical of similar sites in the area.

DATES: If approved, the new fee would be implemented no earlier than six months following the publication of this notice in the Federal Register.

ADDRESSES: Mt. Hood National Forest, 16400 Champion Way, Sandy, OR 97055.

FOR FURTHER INFORMATION CONTACT: Mt. Hood National Forest, Headquarters, 16400 Champion Way, Sandy, OR 97055 or (503) 668-1700.

SUPPLEMENTARY INFORMATION: The Federal Lands Recreation Enhancement Act (title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Two Rivers, Polallie, Little John Sno-Park, Keeps Mill, Badger Lake, Bonney Meadows, Fifteen Mile, Underhill, Little Badger and White River Station Campgrounds are proposed at $10 per night. In addition, this proposal would implement new fees at one recreation rental: Trillium Yurt, proposed at $100 a night. A proposed $5 per vehicle day-use fee at Lolo Pass, East Fork, Fifteen Mile, Badger Lake, Little Badger, Bonney Meadows, and Underhill Trailheads; Little Fan Creek and Peg Leg picnic sites; and Rock Creek, McCubbins Day Use, and La Dee Flat Off-Highway Vehicle (OHV) Staging Area would be added to improve services and facilities. The full suite of Interagency passes would be honored. A new special recreation climbing permit: Mt. Hood Climbing Permit is being proposed at $20 per person for a two-day permit with a $100 annual pass also available.

New fees would provide increased visitor opportunities, as well as increased staffing to address operations and maintenance needs that are intended to enhance customer service. Once public involvement is complete, these new fees will be reviewed by a Recreation Resource Advisory Committee prior to a final decision and implementation.

Advanced reservations for the campgrounds and the yurt will be available through www.recreation.gov or by calling 1-877-444-6777. The reservation service charges an $8.00 fee for reservations.

Dated: August 30, 2022.
Sandra Watts,
Acting Associate Deputy Chief, National Forest System.

[FR Doc. 2022-19184 Filed 9-2-22; 8:45 am]

BILLING CODE 3411-15-P